DEPARTMENT OF HEALTH AND HUMAN SERVICES

Centers for Disease Control and Prevention

Board of Scientific Counselors, Coordinating Office for Terrorism Preparedness and Emergency Response (BSC, COTPER)

In accordance with section 10(a)(2) of the Federal Advisory Committee Act (Pub. L. 92-463), the Centers for Disease Control and Prevention (CDC), announces the following meeting of the aforementioned committee:

Time and Date: 3 p.m.-5 p.m., December 8, 2009.

Place: Web Conference. Please contact the BSC Coordinator (see Contact Person for More Information) to obtain further instructions on how to participate by phone and online.

Status: Open to the public, teleconference access limited only by availability of telephone ports.

Purpose: This Board is charged with advising the Secretary of HHS and Director of CDC concerning strategies and goals for the programs and research within COTPER, monitoring the strategic direction and focus of the Divisions, and conducting peer review of scientific programs. For additional information about the BSC, COTPER please visit: http://emergency.cdc.gov/cotper/science/counselors.asp.

Matters to be Discussed: The teleconference agenda will include a discussion of the findings from an external peer review of COTPER's Division of State and Local Readiness that was conducted by an ad hoc BSC workgroup. BSC members will vote on recommendations following the discussion. Agenda items are subject to change as priorities dictate.

Contact Person for More Information: Matthew Jennings, BSC Coordinator, COTPER, CDC, 1600 Clifton Rd NE., Mailstop D-44, Atlanta, GA 30333, Telephone: (404)639-7357; Facsimile: (404)639-7977; E-mail: COTPER.BSC.Questions@cdc.gov.

The Director, Management Analysis and Services office has been delegated the authority to sign Federal Register notices pertaining to announcements of meetings and other committee management activities for both the Centers for Disease Control and Prevention and the Agency for Toxic Substances and Disease Registry.

Dated: October 27, 2009.
Elaine L. Baker,
Director, Management Analysis and Service Office, Centers for Disease Control and Prevention.

[FR Doc. E9-26801 Filed 11-5-09; 8:45 am]

BILLING CODE 4163-18-P